DEPARTMENT OF TRANSPORTATION

Federal Aviation Administration

56th Meeting: RTCA Special Committee 186, Automatic Dependent Surveillance—Broadcast (ADS-B)

AGENCY: Federal Aviation Administration (FAA), U.S. Department of Transportation (DOT).

ACTION: Notice of RTCA Special Committee 186, Automatic Dependent Surveillance—Broadcast (ADS-B).

SUMMARY: The FAA is issuing this notice to advise the public of the 56th meeting of RTCA Special Committee 186, Automatic Dependent Surveillance—Broadcast (ADS-B)

DATES: The meeting will be held March 20, 2012, from 8:30 a.m.-4:30 p.m.

ADDRESSES: The meeting will be held at RTCA, Inc., 1150 18th Street, MacIntosh—NBAA Room and Colson Board Room, NW., Suite 910, Washington, DC 20036

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a)(2) of the Federal Advisory Committee Act (Pub. L. 92-463, 5 U.S.C., App.), notice is hereby given for a meeting of Special Committee 186. The agenda will include the following:

March 20, 2012

Joint Session with EUROCAE Working Group 51

• Chairman's Introductory Remarks

• Review of Meeting Agenda

• Review/Approval of the Fifty-Fifth Meeting Summary, RTCA Paper No. 256-11/SC186-319

• FAA Surveillance and Broadcast Services (SBS) Program—Status

• Working Group Reports

• Traffic Situation Awareness with Alerts (TSAA)—Status

• TSAA Functionality with respect to Existing Traffic Safety Nets

• EUORCAE WG51 TSAA Perpective

• Flight-deck Interval Management (FIM)—Status.

• WG-1—Operations and Implementation—no report

• WG-2—TIS-B MASPS—no report

• WG-3—1090 MHz MOPS—no report

• Corrigendum-1 for DO-260B/ED-102A approved by PMC, Dec. 13, 2011

• WG-4—Application Technical Requirements—Status

• WG-5—UAT MOPS—no report

• Corrigendum-1 for DO-282B approved by PMC, Dec. 13, 2011

• WG-6—Combined ADS-B & ASA MASPS—(See agenda item #7.)

• Date, Place and Time of Next Meeting

SC186 Only Agenda Items

• Document Approval: DO-xxx—Minimum Aviation System Performance Standards (MASPS) for ADS-B Traffic Surveillance Systems and Application (ATSSA)

• New Business

• Other Business

• Review Action Items/Work Programs

• Adjourn Plenary

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on February 23, 2012.
John Raper,
Manager, Business Operations Branch, Federal Aviation Administration.

[FR Doc. 2012-4710 Filed 2-27-12; 8:45 am]

BILLING CODE 4910-13-P